OFFICE OF PERSONNEL MANAGEMENT

Federal Salary Council

AGENCY: Office of Personnel Management.

ACTION: Notice of meetings.

SUMMARY: The Federal Salary Council will meet on September 5 and September 30, 2008, at the times and location shown below. The Council is an advisory body composed of representatives of Federal employee organizations and experts in the fields of labor relations and pay policy. The Council makes recommendations to the President's Pay Agent (the Secretary of Labor and the Directors of the Office of Management and Budget and the Office of Personnel Management) about the locality pay program for General Schedule employees under section 5304 of title 5, United States Code. The Council's recommendations cover the establishment or modification of locality pay areas, the coverage of salary surveys, the process of comparing Federal and non-Federal rates of pay, and the level of comparability payments that should be paid.

The September 5 meeting will be devoted to reviewing information and hearing testimony about existing locality pay area boundaries and the establishment of new locality pay areas. The Council will conduct its other business including reviewing the results of pay comparisons and formulating its recommendations to the President's Pay Agent on pay comparison methods, locality pay rates, and locality pay area boundaries for 2010 at the September 30 meeting. Both meetings are open to the public. Please contact the Office of Personnel Management at the address shown below if you wish to submit testimony or present material to the Council at the meetings.

DATES: September 5, 2008, at 10 a.m. and September 30, 2008, at 10 a.m.

Location: Office of Personnel Management, 1900 E Street, NW., Room 1350, Washington, DC.

FOR FURTHER INFORMATION CONTACT: Charles D. Grimes III, Deputy Associate Director for Performance and Pay Systems, Office of Personnel Management, 1900 E Street, NW., Room 7H31, Washington, DC 20415-8200. Phone (202) 606-2838; FAX (202) 606-4264; or e-mail at pay-performance-policy@opm.gov.

For the President's Pay Agent:
Linda M. Springer,
Director.

[FR Doc. E8-16940 Filed 7-23-08; 8:45 am]

BILLING CODE 6325-39-P